DEPARTMENT OF HEALTH AND HUMAN SERVICES

Centers for Disease Control and Prevention

[60 Day-03-84]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Dale Verell, CDC Assistant Reports Clearance Officer, 1600 Clifton Road, MS-D24, Atlanta, GA 30333. Written comments should be received within 60 days of this notice.

Proposed Project: Evaluation of the Process Required to Effectively Expand the National Laboratory System (NLS) to ALL States—New—Public Health Practice Program Office (PHPPO), Centers for Disease Control and Prevention (CDC). In October 2000, the Centers for Disease Control and Prevention (CDC) and the Association of Public Health Laboratories (APHL) collaborated to support demonstration projects designed to test the feasibility of strengthening the relationship between private clinical and public health laboratories to more rapidly identify and respond to emerging problems of public health importance. The National Laboratory System (NLS) concept was proposed because of concerns about the potential impact that a lack of integration among clinical and public health laboratories could have on the ability of the public health system to identify and carry out a timely response to foodborne illnesses, bioterrorism incidents or other emerging diseases.

NLS demonstration projects are funded in four states—Washington, Michigan, Minnesota and Nebraska.

The NLS concept would promote communication and collaboration between clinical laboratories and state public health laboratories within their states. CDC is now proposing to collect data from all state public health laboratory directors and from a sample of clinical laboratories in each state to determine the interest within states in implementing the NLS concept. Results of the data collection will be stratified by state and used to assist each state's public health laboratory in improving communication and collaboration with the clinical laboratories in their state. As more states implement the systems, the ability to respond to national emergencies through individual state systems, would be improved.

The goals of the data collection are:

• To determine the barriers that must be overcome to expand the NLS concept in other states

• To determine the readiness of states to develop relationships with clinical laboratories

• To determine the most effective communication links for sharing information among state public health laboratories and clinical laboratories within the state

• To understand what topics of public health significance could be addressed in each state if communication and coordination between the clinical and state public health laboratories were improved. There are no costs to respondents.

Respondents | No. of respondents | No. of responses per respondent | Average burden per response (in hrs.) | Total burden (in hrs.)
Survey of State Public Health Directors in States Without NLS | 50 | 1 | 30/60 | 25
Survey of Clinical Laboratory Directors in All States | 600 | 1 | 30/60 | 300
Total |  |  |  | 325

Dated: June 23, 2003.
Thomas A. Bartenfeld,
Acting Associate Director for Policy, Planning and Evaluation, Centers for Disease Control and Prevention.

[FR Doc. 03-16282 Filed 6-26-03; 8:45 am]

BILLING CODE 4163-18-P